DEPARTMENT OF COMMERCE

Foreign-Trade Zones Board

[S-218-2024]

Foreign-Trade Zone 240; Application for Subzone; Premium Guard, Inc.; Weirton, West Virginia

An application has been submitted to the Foreign-Trade Zones (FTZ) Board by the West Virginia Economic Development Authority, grantee of FTZ 240, requesting subzone status for the facility of Premium Guard, Inc., located in Weirton, West Virginia. The application was submitted pursuant to the provisions of the Foreign-Trade Zones Act, as amended (19 U.S.C. 81a-81u), and the regulations of the FTZ Board (15 CFR part 400). It was formally docketed on December 11, 2024.

The proposed subzone (28.6 acres) is located at 491 Park Drive, Weirton, West Virginia. No authorization for production activity has been requested at this time. The proposed subzone would be subject to the existing activation limit of FTZ 240.

In accordance with the FTZ Board's regulations, Kolade Osho of the FTZ Staff is designated examiner to review the application and make recommendations to the Executive Secretary.

Public comment is invited from interested parties. Submissions shall be addressed to the FTZ Board's Executive Secretary and sent to: ftz@trade.gov. The closing period for their receipt is January 27, 2025. Rebuttal comments in response to material submitted during the foregoing period may be submitted during the subsequent 15-day period to February 11, 2025.

A copy of the application will be available for public inspection in the “Online FTZ Information Section” section of the FTZ Board's website, which is accessible via www.trade.gov/ftz.

For further information, contact Kolade Osho at Kolade.Osho@trade.gov.

Dated: December 12, 2024.
Camille R. Evans,
Acting Executive Secretary.

[FR Doc. 2024-29909 Filed 12-17-24; 8:45 am]

BILLING CODE 3510-DS-P